DEPARTMENT OF HEALTH AND HUMAN SERVICES

Centers for Disease Control and Prevention

Advisory Council for the Elimination of Tuberculosis: Notice of Charter Renewal

This gives notice under the Federal Advisory Committee Act (Pub. L. 92-463) of October 6, 1972, that the charter for the Advisory Council for the Elimination of Tuberculosis (ACET) of the Centers for Disease Control and Prevention, Department of Health and Human Services, has been renewed for a 2-year period, through March 15, 2005.

For further information, contact Ronald O. Valdiserri, M.D., Executive Secretary, Advisory Council for the Elimination of Tuberculosis, CDC, 1600 Clifton Road, NE, M/S E-07, Atlanta, Georgia 30333, telephone 404/639-8002 or fax 404-639-8600.

The Director, Management Analysis and Services Office, has been delegated the authority to sign Federal Register notices pertaining to announcements of meetings and other committee management activities, for both the Centers for Disease Control and Prevention and the Agency for Toxic Substances and Disease Registry.

Alvin Hall,
Director, Management Analysis and Services Office, Centers for Disease Control and Prevention.

[FR Doc. 03-7178 Filed 3-25-03; 8:45 am]

BILLING CODE 4163-18-P